DEPARTMENT OF TRANSPORTATION

Federal Aviation Administration

14 CFR Part 39

[Docket No. FAA-2009-0642; Directorate Identifier 2009-NM-001-AD; Amendment 39-16241; AD 2010-06-16]

RIN 2120-AA64

Airworthiness Directives; The Boeing Company Model 767 Airplanes

AGENCY: Federal Aviation Administration (FAA), DOT.

ACTION: Final rule.

SUMMARY: We are adopting a new airworthiness directive (AD) for certain Model 767 series airplanes. This AD requires inspections for scribe lines in the fuselage skin at skin lap joints, the skin at certain external approved repairs, the skin around external features such as antennas, and the skin at decals; and related investigative and corrective actions if necessary. This AD results from reports of scribe lines found at skin lap joints and butt joints, around external repairs and antennas, and at locations where external decals had been cut. We are issuing this AD to detect and correct scribe lines, which can develop into fatigue cracks in the skin and cause sudden decompression of the airplane.

DATES: This AD is effective April 21, 2010.

The Director of the Federal Register approved the incorporation by reference of a certain publication listed in the AD as of April 21, 2010.

ADDRESSES: For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Berhane Alazar, Aerospace Engineer, Airframe Branch, ANM-120S, FAA, Seattle Aircraft Certification Office (ACO), 1601 Lind Avenue, SW., Renton, Washington 98057-3356; telephone (425) 917-6577; fax (425) 917-6590.

SUPPLEMENTARY INFORMATION:

Discussion

We issued a notice of proposed rulemaking (NPRM) to amend 14 CFR part 39 to include an airworthiness directive (AD) that would apply to certain Boeing Model 767 airplanes. That NPRM was published in the Federal Register on July 16, 2009 (74 FR 34513). That NPRM proposed to require inspections for scribe lines in the fuselage skin at skin lap joints, the skin at certain external approved repairs, the skin around external features such as antennas, and the skin at decals; and related investigative and corrective actions if necessary.

Comments

We gave the public the opportunity to participate in developing this AD. We considered the comments received from the commenters.

Support for the NPRM

The Air Transport Association of America (ATA) agrees with the intent of the NPRM.

Request To Remove Requirements for Inspections for Partially Repainted Airplanes

The ATA, on behalf of its member American Airlines (AA), requests that we revise the NPRM to state that the inspections done in accordance with Boeing Alert Service Bulletin 767-53A0193, Revision 1, dated April 9, 2009, are necessary only in areas that have been previously stripped or repainted.

We agree that clarification is necessary. Note 1 of paragraph (g) of this AD, as well as the notes in paragraph 1.E., “Compliance,” of Boeing Alert Service Bulletin 767-53A0193, Revision 1, dated April 9, 2009, state the exceptions to the inspection. Boeing Alert Service Bulletin 767-53A0193, Revision 1, dated April 9, 2009, states that these inspections are not necessary in areas that have not been stripped or repainted. We have not changed the AD in this regard.

Request To Remove Reference to Butt Joints From Paragraph (g) of the NPRM

The ATA, on behalf of its member United Airlines (UAL), and Boeing and Japan Airlines (JAL) request that we remove the term “butt joints” from the requirements of paragraph (g) of the NPRM. Boeing and JAL point out that Boeing Alert Service Bulletin 767-53A0193, Revision 1, dated April 9, 2009, does not specify any inspections for scribe lines at butt joints.

We agree to remove the reference to “butt joints” from paragraph (g) in this final rule. While Boeing Alert Service Bulletin 767-53A0193, Revision 1, dated April 9, 2009, does state that some scribe lines were found at butt joint areas of the skin, it does not specifically address scribe lines found at butt joints for Model 767 airplanes. We have removed the term “butt joints” from paragraph (g) of the final rule.

Request To Remove Requirement for Inspections Where Decals Have Been Installed

JAL requests that we remove the requirement for inspections where decals have been installed if procedures were used to ensure that the skin was not damaged. JAL states that it protects the skin before installing decals and inspects the skin to confirm that the area is free of damage after installing decals.

We partially agree. Using tools that do not scribe the skin should be given consideration. However, we disagree that it is necessary to remove the requirement for inspections of any location where decals have been installed. Notes (b) and (d) in Table 1 in paragraph 1.E., “Compliance,” of Boeing Alert Service Bulletin 767-53A0193, Revision 1, dated April 9, 2009, state the locations that are exempt from the inspections. Under the provisions of paragraph (l) of the final rule, we will consider requests for approval of an alternative method of compliance if data are submitted to substantiate that such request would provide an acceptable level of safety. We have not changed the AD regarding this issue.

Request To Revise Reporting Requirement

All Nippon Airways (ANA), JAL, Boeing, and ATA, on behalf of its member Delta, request that we require reporting for crack findings only rather than require reporting positive and negative findings. ANA requests that we limit reporting to positive findings of cracks equal to or greater than 0.006 inch deep. Delta requests that reporting be mandated only for positive findings (specifically findings over 0.001 inch deep), and requests that we extend the window for reporting from 30 to 180 days. Delta states that a longer time period will allow findings to be batched together for a grouped report and preclude undue compliance issues related to late reporting. The commenters state that to require reporting for all findings, both for positive and negative findings, is burdensome and unnecessary.

We agree to revise the reporting requirement to require reporting only for positive findings. Since Boeing Alert Service Bulletin 767-53A0193, Revision 1, dated April 9, 2009, specifies that only a repair plan be reported to Boeing, we have revised paragraph (j) of the final rule to require reporting only for scribe lines deeper than 0.001 inch along with a respective repair plan. While airplanes with scribe lines greater than 0.001 inch deep and less than 0.006 inch deep may be eligible for the limited return to service (LRTS) program depending on location, airplanes with scribe lines greater than 0.006 inch in any location are not eligible for the LRTS program.

We disagree with Delta's request to extend the window for reporting from 30 to 180 days. We find that 30 days after a completed inspection is an appropriate amount of time to submit reporting requirements.

Request To Remove Inspection Requirement for Areas Without External Features

JAL requests that we remove the inspection requirement for areas without external features. JAL notes that Boeing Alert Service Bulletin 767-53A0193, Revision 1, dated April 9, 2009, requires inspections for scribe lines where external features are installed. JAL states that it has airplane configurations with antennas that were not installed. JAL requests that we add “if an antenna is not located in the position described in the identification, no inspection for the skin at that location is required,” to the AD.

We partially agree with the commenter. Boeing Alert Service Bulletin 767-53A0193, Revision 1, dated April 9, 2009, does not provide instructions to address such anomalies in those areas. However, we disagree that adding an exception to the AD is necessary because these anomalies do not affect the majority of the fleet. JAL may address this situation by requesting approval of an alternative method of compliance (AMOC) according to the procedures in paragraph (l) of this AD. We have not changed the AD in this regard.

Request To Change “Exploratory Detailed Inspection” to “Detailed Inspection”

JAL requests that we change the term “exploratory detailed inspection” to “detailed inspection” because Boeing Alert Service Bulletin 767-53A0193, Revision 1, dated April 9, 2009, does not define “exploratory detailed inspection.”

We agree to change the term for the reason provided by the commenter. We have revised paragraph (g) of the AD to reflect this change.

Request To Remove Requirement to Return Airplanes To a “Serviceable Condition”

The ATA, on behalf of its member AA, requests that we remove the requirement to return airplanes to a “serviceable condition.” AA notes that Boeing Alert Service Bulletin 767-53A0193, Revision 1, dated April 9, 2009, states “put the airplane back into a serviceable condition” multiple times. AA requests that we revise the AD to exclude this requirement because it does not address the unsafe condition. Furthermore, AA states that most operators will accomplish these inspections as part of a heavy maintenance visit, so returning the airplane to a serviceable condition will occur well after the inspections are complete.

We partially agree with the commenter's request. The airplanes may not be in a “serviceable” condition immediately after addressing the scribe line issue. However, we disagree that revising the AD is necessary because the statement is designed to ensure that the airplane is airworthy after all the required tasks have been completed and before the next flight of the airplane. We have not revised the AD in regard to this issue.

Request To Include Alternate Measurement Tools

The ATA, on behalf of its member AA, requests that we include alternate measurement tools. AA notes that paragraph 2.F., “Special Tooling,” of Boeing Alert Service Bulletin 767-53A0193, Revision 1, dated April 9, 2009, lists several different optical micrometers and laser measurement devices. AA requests that we revise the AD to include provisions for using alternative equivalent measurement tools rather than allowing only the specific models listed.

We disagree with the commenter's request to revise the AD to include alternative measurement tools. Boeing Alert Service Bulletin 767-53A0193, Revision 1, dated April 9, 2009, specifies that no special tooling is necessary to accomplish the specified actions, and it lists standard tools that may be needed to measure scribe line depth. We have not changed the AD in this regard.

Request To Change Compliance Time in the Service Bulletin

ANA requests that we change the requirement “after the original issue date of the service bulletin” as it is written in paragraph 1.E., “Compliance,” of Boeing Alert Service Bulletin 767-53A0193, Revision 1, dated April 9, 2009, to “after the effective date of the AD.”

We agree with the commenter that the effective date of the AD should be the date used to determine compliance. Paragraph (h) of this final rule states that where Boeing Alert Service Bulletin 767-53A0193, Revision 1, dated April 9, 2009, specifies a compliance time after the date on that service bulletin, this AD requires compliance within the specified compliance time after the effective date of this AD. We have not changed the AD in this regard.

Explanation of Change Made to This AD

Boeing Commercial Airplanes has received an Organization Designation Authorization (ODA), which replaces their previous designation as a Delegation Option Authorization (DOA) holder. We have revised paragraph (l)(3) of this AD to delegate the authority to approve an alternative method of compliance for any repair required by this AD to the Boeing Commercial Airplanes ODA.

Conclusion

We reviewed the relevant data, considered the comments received, and determined that air safety and the public interest require adopting the AD with the changes described previously. We also determined that these changes will not increase the economic burden on any operator or increase the scope of the AD.

Costs of Compliance

We estimate that this AD affects 367 airplanes of U.S. registry. The following table provides the estimated costs for U.S. operators to comply with this AD.

Table—Estimated Costs
Action | Work hours | Average labor rate per hour | Parts | Cost per product | Number of U.S.- registered airplanes | Fleet cost
Inspections | 340 | $80 | None | $27,200 | 367 | $9,982,400

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-06-16 The Boeing Company: Amendment 39-16241. Docket No. FAA-2009-0642; Directorate Identifier 2009-NM-001-AD.

Effective Date

(a) This airworthiness directive (AD) is effective April 21, 2010.

Affected ADs

(b) None.

Applicability

(c) This AD applies to The Boeing Company Model 767-200, -300, -300F, and -400ER series airplanes, certificated in any category, as identified in Boeing Alert Service Bulletin 767-53A0193, Revision 1, dated April 9, 2009.

Subject

(d) Air Transport Association (ATA) of America Code 53: Fuselage.

Unsafe Condition

(e) This AD results from reports of scribe lines found at skin lap joints, butt joints, around external repairs and antennas, and at locations where external decals had been cut. We are issuing this AD to detect and correct scribe lines, which can develop into fatigue cracks in the skin and cause sudden decompression of the airplane.

Compliance

(f) You are responsible for having the actions required by this AD performed within the compliance times specified, unless the actions have already been done.

Inspection

(g) At the applicable times specified in paragraph 1.E., “Compliance,” of Boeing Alert Service Bulletin 767-53A0193, Revision 1, dated April 9, 2009, except as provided in paragraph (h) of this AD, do detailed inspections for scribe lines of skin lap joints around external repairs and antennas, and at locations where external decals might have been cut. Do all applicable related investigative and corrective actions at the times specified in Boeing Alert Service Bulletin 767-53A0193, Revision 1, dated April 9, 2009, by accomplishing all actions specified in the Accomplishment Instructions of that service bulletin, except as provided by paragraph (i) of this AD.

Note 1: The inspection exemptions noted in paragraph 1.E. of Boeing Alert Service Bulletin 767-53A0193, Revision 1, dated April 9, 2009, apply to this AD.

Exceptions to Service Bulletin Specifications

(h) Where Boeing Alert Service Bulletin 767-53A0193, Revision 1, dated April 9, 2009, specifies a compliance time after “the original issue date on this service bulletin,” this AD requires compliance within the specified compliance time after the effective date of this AD.

(i) Where Boeing Alert Service Bulletin 767-53A0193, Revision 1, dated April 9, 2009, specifies to contact Boeing for appropriate action, accomplish applicable actions before further flight using a method approved in accordance with the procedures specified in paragraph (l) of this AD.

Report

(j) At the applicable time specified in paragraph (j)(1) or (j)(2) of this AD: Submit a report of positive findings of scribe lines deeper than 0.001 inch along with a repair plan found during the inspections required by paragraph (g) of this AD. Operators may use the reporting form contained in Appendixes B and C, as applicable, of Boeing Alert Service Bulletin 767-53A0193, Revision 1, dated April 9, 2009. Send the report to Boeing Commercial Airplanes, P.O. Box 3707, Seattle, Washington 98124-2207. The report must contain, at a minimum, the inspection results, a description of any discrepancies found, the airplane serial number, and the number of flight cycles and flight hours on the airplane. Under the provisions of the Paperwork Reduction Act (44 U.S.C. 3501 et seq.), the Office of Management and Budget (OMB) has approved the information collection requirements contained in this AD and has assigned OMB Control Number 2120-0056.

(1) If the inspection was done on or after the effective date of this AD: Submit the report within 30 days after the inspection.

(2) If the inspection was done before the effective date of this AD: Submit the report within 30 days after the effective date of this AD.

Credit for Actions Accomplished Previously

(k) Actions accomplished previously in accordance with Boeing Alert Service Bulletin 767-53A0193, dated November 25, 2008, are considered acceptable for compliance with the applicable actions specified in this AD.

Alternative Methods of Compliance (AMOCs)

(l)(1) The Manager, Seattle Aircraft Certification Office (ACO), FAA, has the authority to approve AMOCs for this AD, if requested using the procedures found in 14 CFR 39.19. Send information to Attn: Berhane Alazar, Aerospace Engineer, Airframe Branch, ANM-120S, FAA, Seattle Aircraft Certification Office, 1601 Lind Avenue, SW., Renton, Washington 98057-3356; telephone (425) 917-6577; fax (425) 917-6590. Or, e-mail information to 9-ANM-Seattle-ACO-AMOC-Requests@faa.gov.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane, and the approval must specifically refer to this AD.

Material Incorporated by Reference

(m) You must use Boeing Alert Service Bulletin 767-53A0193, Revision 1, dated April 9, 2009, to do the actions required by this AD, unless the AD specifies otherwise.

(1) The Director of the Federal Register approved the incorporation by reference of this service information under 5 U.S.C. 552(a) and 1 CFR part 51.

(2) For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on March 9, 2010.
Jeffrey E. Duven,
Acting Manager, Transport Airplane Directorate, Aircraft Certification Service.

[FR Doc. 2010-5670 Filed 3-16-10; 8:45 am]

BILLING CODE 4910-13-P